DEPARTMENT OF HEALTH AND HUMAN SERVICES

National Institutes of Health

Request for Comment: National Center for Complementary and Alternative Medicine Announcement of Strategic Planning Background Papers

ACTION: Notice.

SUMMARY: The National Center for Complementary and Alternative Medicine (NCCAM) is developing its third strategic plan and invites the public to provide comments on three background papers which will support the development of this plan. The papers will cover three topics: Mission, priority setting, and communications and decisionmaking. They will be publicly available through the NCCAM Web site at from on or about October 19 through November 19, 2009. The public is invited to provide comments through the NCCAM Web site.

Background: The National Center for Complementary and Alternative Medicine (NCCAM) was established in 1998 with the mission of exploring complementary and alternative healing practices in the context of rigorous science, training CAM researchers, and disseminating authoritative information to the public and professionals.

To date, NCCAM's efforts to rigorously study CAM, to train CAM researchers, and to communicate with the public and professionals, have been guided by NCCAM's previous strategic plans, located on the NCCAM Web site at http://nccam.nih.gov/about/plans.

The public is invited to review the background papers and provide comments from October 15 through November 15, 2009. The papers may be viewed at http://nccam.nih.gov/.

Request For Comments: The public is invited to provide comments on the three background papers that will support the development of NCCAM's third strategic plan. Comments may be provided through the NCCAM Web site at http://nccam.nih.gov.

For Further Information: To request more information, visit the NCCAM Web site at http://nccam.nih.gov, call 1-888-644-6226, or e-mail <ncamsp@mail.nih.gov>

Comments Due Date: Comments regarding the draft of NCCAM's strategic plan are best assured of having their full effect if received by November 19, 2009.

Dated: October 13, 2009.
Jack Killen,
Deputy Director, National Center for Complementary and Alternative Medicine, National Institutes of Health.

[FR Doc. E9-25307 Filed 10-21-09; 8:45 am]

BILLING CODE 4140-01-M